DEPARTMENT OF AGRICULTURE

Forest Service

Notice of Proposed New Fee Sites; Federal Lands Recreation Enhancement Act, (Title VIII, Pub. L. 108-447)

AGENCY: Sawtooth National Forest, USDA Forest Service.

ACTION: Notice of Proposed New Fee Sites.

SUMMARY: The Sawtooth National Forest is proposing to charge fees at three camping areas on the Fairfield Ranger District, four campgrounds on the Minidoka Ranger District, and two cabins on the Sawtooth National Recreation Area.

Fees are assessed based on the level of amenities and services provided, cost of operation and maintenance, cost comparison for similar facilities, and public comment. The fees listed are proposed and will be finalized upon further analysis and public comment. Funds from fees would be used to maintain the recreation facilities and sites where they are collected.

On the Fairfield Ranger District, The Baumgartner Group Use Campground, and the overnight campsites at the Willow Creek and Bear Creek Transfer Camps (all currently free use sites) are being proposed as fee sites. These sites have the same amenities offered at other developed campgrounds on the Sawtooth and adjacent National Forests. The proposed fee to help maintain the Baumgartner Group use site is $125 a night for up to 100 people. The proposed fees for Willow and Bear Creek would be $6.00 per night for single family sites. The fee season for these three sites will be approximately Memorial Day through September 30 each year as weather permits.

On the Minidoka Ranger District, Schipper, Steer Basin, Sublett, and Diamondfield Jack campgrounds (all currently free use sites) are being proposed as fee sites. These sites have the same amenities offered at other developed campgrounds on the Sawtooth and adjacent National Forests. The proposed fee to help maintain Schipper, Steer Basin, and Sublett would be $5.00 per night for single family sites. The proposed fee for Diamondfield Jack would be $8.00 per night for single family sites. The fee season for these sites will be approximately Memorial Day through September 30 each year as weather permits.

On the Sawtooth National Recreation Area, The Redfish Lake and Sawtooth Valley Work Center cabins are being proposed as fee sites to be available as rental cabins during the shoulder and winter seasons (approximately October 1-April 30 each year). These cabins have not previously been available for public use and are used for employee housing during the summer season. The proposed fee to help maintain these cabins would be $50 and $65 per night respectively.

DATES: New fees would be implemented in May, 2009.

ADDRESSES: Forest Supervisor, Sawtooth National Forest, 2647 Kimberly Road, Twin Falls, Idaho, 83301-7976.

FOR FURTHER INFORMATION CONTACT: For campgrounds on the Fairfield Ranger District: Mike Dettori, District Ranger, 208-764-3202; for campgrounds on the Minidoka Ranger District: Scott Nannenga, District Ranger, 208-678-0430; for cabins: Kelly Jardine, Deputy Area Ranger, 208-774-3000.

SUPPLEMENTARY INFORMATION: The Federal Recreation Lands Enhancement Act (Title VII, Pub. L. 108-447) directed the Secretary of Agriculture to publish a six month advance notice in the Federal Register whenever new recreation fee areas are established.

Dated: August 7, 2008.
Jane P. Kollmeyer,
Sawtooth National Forest Supervisor.

[FR Doc. E8-18719 Filed 8-14-08; 8:45 am]

BILLING CODE 3410-11-M